DEPARTMENT OF THE INTERIOR

Bureau of Land Management

[A2407-014-004-065516; #02412-014-004-047181.1]

Notice of Public Hearing and Request for Comments on the Fair Market Value and Maximum Economic Recovery for the Little Eccles Coal Lease by Application, UTU-92226, in Emery County, Utah

AGENCY: Bureau of Land Management, Interior.

ACTION: Notice of public hearing.

SUMMARY: The Bureau of Land Management (BLM) is soliciting public comments on the fair market value (FMV) and maximum economic recovery (MER) of the coal resources contained in the proposed Skyline Mine Little Eccles lease by application (LBA). This Federal Register notice complies with the Mining Leasing Act of 1920, as amended.

DATES: The public hearing will be held on August 20, 2025, from 5:00 p.m. to 7:00 p.m. (mountain time). Written comments for the FMV and MER must be received by the BLM as provided in the ADDRESSES section below, no later than August 30, 2025.

ADDRESSES: The public hearing details will be published in the ETV News prior to the hearing and on e-Planning BLM website at https://eplanning.blm.gov/eplanning-ui/project/2015277/510. The EIS and documents pertinent to this proposal are also available for review at the same website.

Written comments on the FMV and MER must be received by Erika Tobin at email: etobin@blm.gov or Bureau of Land Management, Attn: Erika Tobin, Skyline FMV and MER, 125 South 600 West, Price, UT 84501.

FOR FURTHER INFORMATION CONTACT: Erika Tobin, telephone (435) 636-3605; or by email etobin@blm.gov. Individuals in the United States who are deaf, deafblind, hard of hearing, or have a speech disability may dial 711 (TTY, TDD, or TeleBraille) to access telecommunications relay services for contacting Ms. Tobin. Individuals outside the United States should use the relay services offered within their country to make international calls to the point-of-contact in the United States.

SUPPLEMENTARY INFORMATION: The lands included in the tract are located in Emery County, Utah, on lands managed by the Manti-La Sal National Forest, and the coal is managed by BLM. The tract is described as follows: Salt Lake Meridian, Utah, T. 14 S., R. l 6 E., sec. 10, W1/2SE1/4 and SE1/4SE1/4.

The area described contains 120 acres, according to the official plat of the survey on file with the BLM.

Canyon Fuel Company, LLC, submitted the Little Eccles LBA to the BLM Utah State Office on July 10, 2019. The Flat Canyon lease modification application (LMA) was also submitted on June 10, 2019, and was subsequently revised on July 5, 2019. To comply with the National Environmental Policy Act, Federal Land Policy and Management Act, and regulations at 43 CFR 3425.3 and 43 CFR 3432.3(c), an EIS was completed to address both the LBA and LMA. The complete EIS is available on e-Planning at the location in the ADDRESSES section.

Additionally, the BLM and U.S. Department of Agriculture Forest Service, as Federal defendants in WildEarth Guardians v. Haaland (2:16-cv-00168), have a responsibility under the March 2023 settlement agreement that resolved the litigation to complete an EIS that at a minimum analyzes effects of climate change attributable to and air-quality effects resulting from these lease proposals when deciding whether or not to approve the Flat Canyon LMA and to issue a new Federal coal lease in the Little Eccles LBA.

The Little Eccles LBA tract has one minable coal bed called the Lower O'Connor A seam ranging from 10.5-15.7 feet in thickness. The LBA contains approximately 2.1 million tons of high-volatile C bituminous coal in-place and an estimated 858,000 tons recoverable coal reserves. The coal quality on an “as received” basis is as follows: 12,519 BTU/lb, 5.98 percent Moisture, 7.01 percent Ash, 42.70 percent Volatile Matter, 44.31 percent Fixed Carbon, and 0.52 percent Sulfur. The BLM may revise this information based on additional information and public comments received.

Public Involvement Process

At the public hearing for the Little Eccles LBA, the BLM will make every effort to accommodate all speakers who register, although preference will be given to participants from the local area. Each commenter will have 3 minutes to provide oral testimony. Written statements and supporting information submitted during the comment period for the LBA will be considered with the same weight as oral comments and supporting information presented at the public hearing.

Proprietary data must be marked “CONFIDENTIAL” and shall be treated in accordance with the laws and regulations governing confidentiality of such information.

A copy of the FMV and MER comments, except those portions marked as “CONFIDENTIAL” by the author and meeting one of the exemptions in the Freedom of Information Act, will be available for public review upon request at the Price Field Office.

Comments on the Little Eccles LBA, FMV, and MER may include, but need not be limited to, the following topics:

1. The quality of the coal resource;

2. The mining method or methods which would achieve MER of the coal, including specifications of seams to be mined and the most desirable timing and rate of production, restriction of mining, and the inclusion of the tract in an existing or proposed mining operation;

3. Whether this tract is likely to be mined as part of an existing or a proposed mine and evaluated on a realistic incremental basis, in relation to the mine which has the greatest value;

4. Whether the tract should be evaluated as part of an existing mine or as a portion of a new potential mine;

5. Restrictions to mining that may affect coal recovery;

6. The price the mined coal would bring when sold;

7. Costs, including mining and reclamation, and the anticipated timing of production;

8. The percentage rate at which anticipated income streams should be discounted, either with inflation or in the absence of inflation, in which case the anticipated rate of inflation should be given;

9. Depreciation, depletion, amortization and other tax accounting factors;

10. Documented information on the terms and conditions of recent and similar coal land transactions in the lease sale area;

11. The value of any privately held mineral or surface estate in the lease sale area; and

12. Any potential or known competitive interest in the lease sale area.

Before including your address, phone number, email address, or other personal identifying information in your comment, you should be aware your entire comment—including your personal identifying information—may be made publicly available at any time. While you can ask us to withhold your personal identifying information from public review, we cannot guarantee we will be able to do so.

(Authority: 43 CFR 3422.1, 3425.3, and 3425.4.)

Gerald Davis,
Utah State Director, Acting.

[FR Doc. 2025-15164 Filed 8-8-25; 8:45 am]

BILLING CODE 4331-25-P